DEPARTMENT OF HOMELAND SECURITY

Coast Guard

33 CFR Part 165

[COTP Sector St. Petersburg 06-175]

RIN 1625-AA00

Safety Zone; Albert Witted Air Show, Tampa Bay, FL

AGENCY: Coast Guard, DHS.

ACTION: Temporary final rule.

SUMMARY: The Coast Guard is establishing temporary safety zones on the waters of Tampa Bay, Florida. These safety zones will ensure the safety of mariners during the Albert Whitted Air Show, an event that will include low flying demonstrations over the waters of Tampa Bay, Florida in the vicinity of the Albert Whitted Airport. This regulation is necessary for the safety of life on the navigable waters of the United States.

DATES: This rule is effective from 11:30 a.m. on October 20, 2006 through 6 p.m. on October 22, 2006.

ADDRESSES: Documents indicated in this preamble as being available in the docket are part of docket [COTP Sector St. Petersburg 06-175] and are available for inspection or copying at Coast Guard Sector St. Petersburg, Prevention Department, 155 Columbia Drive, Tampa, Florida 33606-3598 between 7:30 a.m. and 3:30 p.m., Monday through Friday, except Federal holidays.

FOR FURTHER INFORMATION CONTACT: LT Ronaydee Marquez at Coast Guard Sector St. Petersburg, Prevention Department, (813) 228-2191, Ext. 8203.

SUPPLEMENTARY INFORMATION:

Regulatory Information

We did not publish a notice of proposed rulemaking (NPRM) for this regulation. Under 5 U.S.C. 553(b)(B), the Coast Guard finds that good cause exists for not publishing an NPRM. The necessary details for the final date of the air show and the location of the safety zones surrounding it were not provided with sufficient time to publish an NPRM. Publishing an NPRM and delaying its effective date would be contrary to the public interest since immediate action is needed to minimize potential danger to the public and participants during the air show. This safety zone is necessary to ensure the safety of mariners in the vicinity of Albert Whitted Airport due to low-flying aerobatic demonstrations over the waters of Tampa Bay, Florida. The Coast Guard will issue a broadcast notice to mariners to advise mariners of the restriction. Coast Guard assets on scene will also provide notice of the safety zone to mariners.

For the same reasons, under 5 U.S.C. 553(d)(3), the Coast Guard finds that good cause exists for making this rule effective less than 30 days after publication in the Federal Register.

Background and Purpose

The Albert Whitted Airport will host an open house/air show October 20 through October 22, 2006, in Tampa Bay, Florida. The event will include low flying aerobatic demonstrations over the near shore waters of Tampa Bay, Florida. Demonstrations will include F-15 jet aircraft, parachute jumpers, and smaller aircraft flying in formation at altitudes 50 feet off the water. The military jet aircraft demonstrations will require a large aerial demonstration safety zone. This large zone will require Bayboro Harbor to be closed and will be enforced during the military jet aircraft demonstration. A smaller aerial demonstration safety zone will be enforced during all other aerial demonstrations throughout the event. These safety zones are being established to ensure safety of life on the navigable waters of the United States.

Discussion of Rule

These safety zones encompass all waters of Tampa Bay, Florida in the vicinity of the Albert Whitted Airport within two aerial demonstration areas. The large aerial demonstration safety zone is approximately 1,000 yards wide by 2,180 yards long with a north south orientation, and will accommodate the fast-moving low-flying military jet aircraft. The smaller aerial demonstration safety zone is approximately 500 yards wide by 1,500 yards long with a north south orientation, and will accommodate the smaller aerobatic aircraft. This will minimize the restriction of vessel movement into or out of Bayboro Harbor, St. Petersburg, Florida. Vessels and persons are prohibited from anchoring, mooring, or transiting within these zones, unless authorized by the Captain of the Port Sector St. Petersburg or his designated representative. The large aerial demonstration safety zone will be enforced from 2:30 p.m. until 3:30 p.m., October 20, 21 and 22, 2006; the smaller aerial demonstration safety zone will be enforced from 11:30 a.m. until 6 p.m., October 20, 21 and 22, 2006.

Regulatory Evaluation

This rule is not a “significant regulatory action” under section 3(f) of Executive Order 12866, Regulatory Planning and Review, and does not require an assessment of potential costs and benefits under section 6(a)(3) of that Order. The Office of Management and Budget has not reviewed it under that Order.

The Coast Guard expects the impact of this rule to be so minimal that a full Regulatory Evaluation is unnecessary because these safety zones will only be in effect for a short period of time. Moreover, vessels may enter with the express permission of the Captain of the Port of Sector St. Petersburg or his designated representative.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: the owners or operators of vessels intending to transit Tampa Bay near St. Petersburg Albert Whitted Airport, Florida from 11:30 a.m. to 6 p.m. on October 20, 2006 through October 22, 2006. These safety zones will not have a significant economic impact on a substantial number of small entities for the following reasons. This rule will be in effect for a short period of time in an area where vessel traffic is extremely low. Additionally, vessel traffic may be allowed to enter the safety zones with the express permission of the Captain of the Port Sector St. Petersburg or his designated representative.

Assistance for Small Entities

Under section 213(a) of the Small Business Regulatory Enforcement Fairness Act of 1996 (Pub. L. 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Directive 5100.l, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(g), of the Instruction, from further environmental documentation. An “Environmental Analysis Check List” and a “Categorical Exclusion Determination” are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191; 33 CFR 1.05-1(g), 6.04-1, 6.04-6, and 160.5; Pub. L. 107-295, 116 Stat. 2064; Department of Homeland Security Delegation No. 0170.1.

2. Add a new temporary § 165.T07-175 to read as follows:

§ 165.T07-175 Safety Zones; Tampa Bay Florida.

(a) Location. The Coast Guard is establishing two temporary safety zones on the waters of Tampa Bay, Florida in the vicinity of the Albert Whitted Airport encompassing all waters, from surface to bottom, located within the following two areas. All coordinates referenced use Datum: NAD 1983.

(1) Large aerial demonstration safety zone:

1: 27°46′16″ N, 82°37′31″ W;

2: 27°45′13″ N, 82°37′31″ W;

3: 27°45′13″ N, 82°36′57″ W;

4: 27°46′16″ N, 82°36′57″ W;

(2) Small aerial demonstration safety zone:

1: 27°46′14″ N, 82°37′33″ W;

2: 27°46′14″ N, 82°37′17″ W;

3: 27°45′35″ N, 82°37′17″ W;

4: 27°45′35″ N, 82°37′33″ W.

(b) Regulations. In accordance with the general regulations in § 165.23 of this part, entry into either of these safety zones is prohibited to all vessels and persons without the prior permission of the Coast Guard Captain of the Port Sector St. Petersburg or his designated representative.

(c) Enforcement Period. Enforcement of the safety zone identified in paragraph (a)(1) will be from 2:30 p.m. to 3:30 p.m. on October 20, 21 and 22, 2006. Enforcement of the safety zone identified in paragraph (a)(2) will be from 11:30 a.m. to 6 p.m. on October 20, 21 and 22, 2006.

(d) Effective Period. This rule is effective from 11:30 a.m. on October 20, 2006 through 6 p.m. on October 22, 2006.

Dated: October 4, 2006.
J.A. Servidio,
Captain, U.S. Coast Guard, Captain of the Port, Sector St. Petersburg, Florida.

[FR Doc. E6-17576 Filed 10-19-06; 8:45 am]

BILLING CODE 4910-15-P